DEPARTMENT OF ENERGY

Federal Energy Regulatory Commission

Combined Notice of Filings #1

Take notice that the Commission received the following electric corporate filings:

Docket Numbers: EC23-117-000.

Applicants: Heritage Power, LLC, J. Aron & Company LLC.

Description: Application for Authorization Under Section 203 of the Federal Power Act of Heritage Power, LLC.

Filed Date: 8/9/23.

Accession Number: 20230809-5195.

Comment Date: 5 p.m. ET 8/30/23.

Docket Numbers: EC23-118-000.

Applicants: Yellow Pine Solar, LLC, Yellow Pine Solar Interconnect, LLC.

Description: Joint Application for Authorization Under Section 203 of the Federal Power Act of Yellow Pine Solar, LLC, et al.

Filed Date: 8/10/23.

Accession Number: 20230810-5167.

Comment Date: 5 p.m. ET 8/31/23.

Docket Numbers: EC23-119-000.

Applicants: Sojitz Corporation of America, AL Blueway Holdings, LLC.

Description: Joint Application for Authorization Under Section 203 of the Federal Power Act of Sojitz Corporation of America, et al.

Filed Date: 8/11/23.

Accession Number: 20230811-5110.

Comment Date: 5 p.m. ET 9/25/23.

Docket Numbers: EC23-120-000.

Applicants: El Paso Electric Company, Vista Energy Center, LLC.

Description: Joint Application for Authorization Under Section 203 of the Federal Power Act of El Paso Electric Company.

Filed Date: 8/11/23.

Accession Number: 20230811-5130.

Comment Date: 5 p.m. ET 9/1/23.

Take notice that the Commission received the following exempt wholesale generator filings:

Docket Numbers: EG23-253-000.

Applicants: Mockingbird Solar Center, LLC.

Description: Mockingbird Solar Center, LLC submits Notice of Self-Certification of Exempt Wholesale Generator Status.

Filed Date: 8/11/23.

Accession Number: 20230811-5099.

Comment Date: 5 p.m. ET 9/1/23.

Take notice that the Commission received the following electric rate filings:

Docket Numbers: ER22-2883-001.

Applicants: Western Interconnect LLC.

Description: Compliance filing: Supplement to Order No. 881 Compliance Filing (ER22-2883-) to be effective 7/12/2025.

Filed Date: 8/11/23.

Accession Number: 20230811-5023.

Comment Date: 5 p.m. ET 9/1/23.

Docket Numbers: ER23-2143-001.

Applicants: Nevada Power Company.

Description: Tariff Amendment: Supplemental Filing and Request for Shortened Comment Period to be effective 7/1/2023.

Filed Date: 8/11/23.

Accession Number: 20230811-5041.

Comment Date: 5 p.m. ET 8/21/23.

Docket Numbers: ER23-2606-000.

Applicants: Southwest Power Pool, Inc.

Description: § 205(d) Rate Filing: Tariff Clean-Up for Evergy Kansas Central—Eff. 20210401, 20230115 and 20230701 to be effective 4/1/2021.

Filed Date: 8/10/23.

Accession Number: 20230810-5148.

Comment Date: 5 p.m. ET 8/31/23.

Docket Numbers: ER23-2607-000.

Applicants: Midcontinent Independent System Operator, Inc.

Description: § 205(d) Rate Filing: 2023-08-11_SA 2194 ITC Midwest-Elk Wind Energy 4th Rev GIA (H007 J443) to be effective 7/31/2023.

Filed Date: 8/11/23.

Accession Number: 20230811-5025.

Comment Date: 5 p.m. ET 9/1/23.

Docket Numbers: ER23-2608-000.

Applicants: PJM Interconnection, L.L.C.

Description: § 205(d) Rate Filing: Original ISA, Service Agreement No. 7023; Queue No. AF2-092 to be effective 7/12/2023.

Filed Date: 8/11/23.

Accession Number: 20230811-5035.

Comment Date: 5 p.m. ET 9/1/23.

Docket Numbers: ER23-2609-000.

Applicants: Midcontinent Independent System Operator, Inc.

Description: § 205(d) Rate Filing: 2023-08-11_SA 4152 4153 NSP-MRES FCA & FSA (Fergus MPFP) to be effective 10/11/2023.

Filed Date: 8/11/23.

Accession Number: 20230811-5036.

Comment Date: 5 p.m. ET 9/1/23.

Docket Numbers: ER23-2610-000.

Applicants: PJM Interconnection, L.L.C.

Description: Tariff Amendment: Notice of Cancellation of WMPA, SA No. 6231; Queue No. AG2-392 to be effective 10/11/2023.

Filed Date: 8/11/23.

Accession Number: 20230811-5042.

Comment Date: 5 p.m. ET 9/1/23.

Docket Numbers: ER23-2611-000.

Applicants: Pacific Gas and Electric Company.

Description: Notice of Termination of Service Agreement Nos. 535 and 537 with Renewable America, LLC of Pacific Gas and Electric Company.

Filed Date: 8/4/23.

Accession Number: 20230804-5191.

Comment Date: 5 p.m. ET 8/25/23.

Docket Numbers: ER23-2612-000.

Applicants: PJM Interconnection, L.L.C.

Description: § 205(d) Rate Filing: Revisions to Sch. 12—Appx A and C—July 2023 RTEP, 30-Day Comment Period to be effective 11/9/2023.

Filed Date: 8/11/23.

Accession Number: 20230811-5083.

Comment Date: 5 p.m. ET 9/1/23.

Docket Numbers: ER23-2613-000.

Applicants: NextEra Energy Marketing, LLC.

Description: NextEra Energy Marketing, LLC, et al. submit 2022 WECC Soft Price Cap Justification Filing.

Filed Date: 8/8/23.

Accession Number: 20230808-5138.

Comment Date: 5 p.m. ET 8/29/23.

Docket Numbers: ER23-2614-000.

Applicants: Homer City Generation, L.P.

Description: § 205(d) Rate Filing: Revised Market-Based Rate Tariff Filing to be effective 8/12/2023.

Filed Date: 8/11/23.

Accession Number: 20230811-5109.

Comment Date: 5 p.m. ET 9/1/23.

Docket Numbers: ER23-2615-000.

Applicants: West Penn Power Company, The Potomac Edison Company, Monongahela Power Company.

Description: § 205(d) Rate Filing: West Penn Power Company submits tariff filing per 35.13(a)(2)(iii: Allegheny Power submits Pleasants Amended Interconnection & Operating Agreement to be effective 8/1/2023.

Filed Date: 8/11/23.

Accession Number: 20230811-5124.

Comment Date: 5 p.m. ET 9/1/23.

Docket Numbers: ER23-2616-000.

Applicants: PJM Interconnection, L.L.C.

Description: Tariff Amendment: Notice of Cancellation of WMPA, SA No. 6055; Queue No. AG1-095 re: breach to be effective 10/11/2023.

Filed Date: 8/11/23.

Accession Number: 20230811-5127.

Comment Date: 5 p.m. ET 9/1/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 11, 2023.
Kimberly D. Bose,
Secretary.

[FR Doc. 2023-17696 Filed 8-16-23; 8:45 am]

BILLING CODE 6717-01-P